DEPARTMENT OF AGRICULTURE

Forest Service

Notice of Proposed New Fee Sites

AGENCY: Forest Service, Agriculture (USDA).

ACTION: Notice of proposed new fee sites.

SUMMARY: The Mark Twain National Forest is proposing to charge new fees at 11 recreation sites listed in Supplementary Information of this notice. Funds from fees would be used for operation, maintenance, and improvements of these recreation sites. An analysis of nearby developed recreation sites with similar amenities shows the proposed fees are reasonable and typical of similar sites in the area.

DATES: If approved, the new fee would be implemented no earlier than six months following the publication of this notice in the Federal Register.

ADDRESSES: Mark Twain National Forest, 401 Fairgrounds Road, Rolla, MO 65401.

FOR FURTHER INFORMATION CONTACT: Thomas Saylors, Recreation Program Manager, 573-341-7472 or thomas.saylors@usda.gov.

SUPPLEMENTARY INFORMATION: The Federal Recreation Lands Enhancement Act (Title VII, Pub. L. 108-447) directed the Secretary of Agriculture to publish a six-month advance notice in the Federal Register whenever new recreation fee areas are established. The fees are only proposed at this time and will be determined upon further analysis and public comment. Reasonable fees, paid by users of these sites, will help ensure that the Forest can continue maintaining and improving recreation sites like this for future generations.

As part of this proposal, the Paddy Creek, Pine Ridge, Dry Fork, Berryman, and Pinewood Lake campgrounds are proposing $15 per night. Pinewood Lake campground is proposing $25 per night at double sites. Bar-K Horse Camp is proposing $10 per night. The Berryman Group Picnic is proposing $50 per day. In addition, this proposal would implement a new fee at one recreation rental: Sinking Creek Cabin is proposing $75 per night. A $5 day-use fee per vehicle is proposed at Berryman, Big Bay, and Noblett Lake Day Use Areas. The full suite of Interagency passes and the forest annual passes will be honored.

New fees would provide increased visitor opportunities, as well as increased staffing to address operations and maintenance needs and enhance customer service. Once public involvement is complete, these new fees will be reviewed by a Recreation Resource Advisory Committee prior to a final decision and implementation.

Advanced reservations for campgrounds, group sites, and the cabin will be available through www.recreation.gov or by calling 1-877-444-6777. The reservation service charges an $8.00 fee for reservations.

Dated: December 21, 2021
Sandra Watts,
Acting Associate Deputy Chief, National Forest System.

[FR Doc. 2021-28139 Filed 12-27-21; 8:45 am]

BILLING CODE 3411-15-P